DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for Wednesday, October 19, 2005, starting at 9 a.m. Pacific Daylight Time. Arrange for oral presentations by October 17, 2005.

ADDRESSES: Homewood Suites Seattle-Tacoma Airport, 6955 Fort Dent Way, Tukwila, Washington.

FOR FURTHER INFORMATION CONTACT: John Linsenmeyer, Office of Rulemaking, ARM-207, FAA, 800 Independence Avenue, SW., Washington, DC 20591, Telephone (202) 267-5174, FAX (202) 267-5075, or e-mail at john.linsenmeyer@faa.gov.

SUPPLEMENTARY INFORMATION: Pursuant to section 10(a)(2) of the Federal Advisory Committee Act (Pub. L. 92-463; 5 U.S.C. app. III), notice is given of an ARAC meeting to be held October 19, 2005 at Homewood Suites Seattle-Tacoma Airport in Tukwila, Washington.

The agenda will include:

• Opening Remarks.

• FAA Report.

• European Aviation Safety Agency Report.

• Ice Protection Harmonization Working Group (HWG) Report.

• Vote on the Ice Protection HWG Report.

• Airworthiness Assurance HWG Report.

• Avionics HWG Report.

• § 25.1309 Summary of Recent Activity on Specific Risk.

• Review of Action Items.

Attendance is open to the public, but will be limited to the availability of meeting room space. Please confirm your attendance with the person listed in the FOR FURTHER INFORMATION CONTACT section no later than October 17, 2005. Please provide the following information: Full legal name, country of citizenship, and name of your industry association, or applicable affiliation. If you are attending as a public citizen, please indicate so.

For persons participating domestically by telephone, the call-in number is (202) 366-3920; the Passcode is “2235.” To insure that sufficient telephone lines are available, please notify the person listed in the FOR FURTHER INFORMATION CONTACT section of your intent to participate by telephone by October 17. Anyone calling from outside the Washington, DC metropolitan area will be responsible for paying long-distance charges.

The public must make arrangements by October 17 to present oral statements at the meeting. Written statements may be presented to the committee at any time by providing 25 copies to the person listed in the FOR FURTHER INFORMATION CONTACT section or by providing copies at the meeting. Copies of the document to be presented to ARAC for decision by the FAA may be made available by contacting the person listed in the FOR FURTHER INFORMATION CONTACT section.

If you need assistance or require a reasonable accommodation for the meeting or meeting documents, please contact the person listed in the FOR FURTHER INFORMATION CONTACT section. Sign and oral interpretation, as well as a listening device, can be made available if requested 10 calendar days before the meeting.

Issued in Washington, DC, on September 20, 2005.
Anthony F. Fazio,
Director, Office of Rulemaking.

[FR Doc. 05-19207 Filed 9-26-05; 8:45 am]

BILLING CODE 4910-13-P